DEPARTMENT OF TRANSPORTATION

Federal Aviation Administration

14 CFR Part 71

[Docket No. FAA-2018-0131; Airspace Docket No. 18-ASO-4]

RIN 2120-AA66

Amendment of Class D and Class E Airspace; Eastover, SC and Sumter, SC

AGENCY: Federal Aviation Administration (FAA), DOT.

ACTION: Final rule.

SUMMARY: This action amends Class D airspace and Class E airspace extending upward from 700 feet above the surface at Mc Entire Joint National Guard Base (JNGB), Eastover, SC, to accommodate airspace reconfiguration due to the decommissioning of the Mc Entire non-directional radio beacon (NDB) and cancellation of the NDB approach. Controlled airspace is necessary for the safety and management of instrument flight rules (IFR) operations at the airport. This action also updates the geographic coordinates of the Mc Entire JNGB, and Shaw AFB, and Sumter Airport, Sumter, SC, and updates the names of Mc Entire JNGB and Sumter Airport. In addition, an editorial change is made to the airspace designation in both Class D and E airspace.

DATES: Effective 0901 UTC, November 8, 2018. The Director of the Federal Register approves this incorporation by reference action under title 1, Code of Federal Regulations, part 51, subject to the annual revision of FAA Order 7400.11 and publication of conforming amendments.

ADDRESSES: FAA Order 7400.11B, Airspace Designations and Reporting Points, and subsequent amendments can be viewed on line at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, 1701 Columbia Avenue, College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace at Mc Entire JNGB, Shaw AFB, and Sumter Airport, Eastover and Sumter, SC, to support IFR operations at these airports.

History

The FAA published a notice of proposed rulemaking in the Federal Register (83 FR 14610, April 5, 2018) for Docket No. FAA-2018-0131 to amend Class D and Class E airspace extending upward from 700 feet above the surface at Mc Entire JNGB due to the decommissioning of the Mc Entire NDB, and cancellation of the NDB approach. The NPRM also advised of the proposed amendment to the geographic coordinates of Mc Entire JNGB, and Shaw AFB, and Sumter Airport, Sumter, SC, and the Mc Entire JNGB TACAN geographic coordinates. Interested parties were invited to participate in this rulemaking effort by submitting written comments on the proposal to the FAA. One comment was received from the Aircraft Owners and Pilots Association (AOPA) in support of the proposal. In their comment, AOPA stated that the NPRM did not comply with FAA guidance in Order 7400.2, Procedures for Handling Airspace Matters, because a graphic was not included in the docket. Additionally, AOPA encouraged the FAA to follow their guidance by making the action effective date concurrent with publication of the VFR sectional chart publication date.

The FAA has determined AOPA's comments raised no substantive issues related to the proposed changes to the airspace addressed in the NPRM. To the extent the FAA failed to follow its policies related to publishing graphics in the docket and coincidental to the sectional chart date, we note the following.

The FAA provided graphics for this proposal on April 25, 2018. Nevertheless, specific to AOPA's comment regarding the FAA already creating a graphical depiction of new or modified airspace overlaid on a Sectional Chart for quality assurance purposes, this is not correct nor required in all cases. During the airspace reviews, airspace graphics may be created, if deemed necessary, to determine if there are terrain issues, or if cases are considered complex. However, in many cases, a graphic is not required when developing an airspace proposal.

With respect to AOPA's comment addressing effective dates, FAA Order 7400.2L, para 2-3-7.a.4. states that, to the extent practicable, airspace areas and restricted areas should become effective on a sectional chart date and that consideration should be given to selecting a sectional chart date that matches a 56-day en route chart cycle date. The FAA does consider Class E airspace amendment effective dates to coincide with the publication of sectional charts, to the extent practicable; however, this consideration is accomplished after the NPRM comment period ends in the Final Rule. Substantive comments received to NPRMs, flight safety concerns, management of IFR operations at affected airports, and immediacy of required proposed airspace amendments are some of the factors that must be taken into consideration when selecting the appropriate effective date. After considering all factors, the FAA may determine that selecting an effective date that conforms to a 56-day en route chart cycle date that is not coincidental to sectional chart dates is better for the NAS and its users rather than awaiting the next sectional chart date.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This amendment to Title 14, Code of Federal Regulations (14 CFR) part 71 amends Class D airspace and Class E airspace extending upward from 700 feet or more above the surface of Mc Entire JNGB, due to the decommissioning of the Mc Entire NDB, and cancellation of the NDB approach. The changes enhance the safety and management of IFR operations at the airport.

The geographic coordinates of the Mc Entire JNGB, Shaw AFB, Sumter Airport, Sumter, and the Mc Entire JNGB TACAN also are adjusted to coincide with the FAA's aeronautical database, and the airport names are updated to Mc Entire JNGB (formerly Mc Entire ANGB), and Sumter Airport (formerly Sumter Municipal Airport). Also, this action updates the name of the Mc Entire ANGB TACAN navigation aid to the Mc Entire JNGB TACAN.

Finally, an editorial change is made to the airspace designation, removing the city from the airport name associated with Mc Entire JNGB and Shaw AFB to comply with a recent change to FAA Order 7400.2L, Procedures for Handling Airspace Matters.

Class D and E airspace designations are published in Paragraphs 5000 and 6005, respectively of FAA Order 7400.11B, dated August 3, 2017, and effective September 15, 2017, which is incorporated by reference in 14 CFR 71.1. The Class E airspace designation listed in this document will be published subsequently in the Order.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.11B, Airspace Designations and Reporting Points, dated August 3, 2017, and effective September 15, 2017, is amended as follows:

Paragraph 5000 Class D Airspace.

* * * * *

ASO SC D Eastover, SC [Amended]

Mc Entire JNGB, SC

(Lat. 33°55′15″ N, long. 80°48′04″ W)

That airspace extending upward from the surface to and including 2,800 feet MSL within a 4.5-mile radius of Mc Entire JNGB. This Class D airspace area is effective during the specific dates and times established in advance by a Notice to Airmen. The effective date and time will thereafter be continuously published in the Chart Supplement.

Paragraph 6005 Class E Airspace Areas Extending Upward From 700 Feet or More Above the Surface of the Earth.

* * * * *

ASO SC E5 Sumter, SC [Amended]

Shaw AFB, SC

(Lat. 33°58′22″ N, long. 80°28′14″ W)

Mc Entire JNGB

(Lat. 33°55′15″ N, long. 80°48′04″ W)

Mc Entire JNGB TACAN

(Lat. 33°55′27″ N, long. 80°48′8″ W)

Sumter Airport, SC

(Lat. 33°59′42″ N, long. 80°21′41″ W)

That airspace extending upward from 700 feet above the surface within a 10-mile radius of Shaw AFB and within a 6.8-mile radius of Mc Entire JNGB and within 3 miles each side of Mc Entire JNGB TACAN 138° radial, extending from the 6.8-mile radius to 12 miles southeast of the TACAN and within a 7-mile radius of Sumter Airport; excluding that airspace contained within Restricted Area R-6002 when it is in use.

Issued in College Park, Georgia, on August 22, 2018.
Ryan W. Almasy,
Manager, Operations Support Group, Eastern Service Center, Air Traffic Organization.

[FR Doc. 2018-18765 Filed 8-29-18; 8:45 am]

BILLING CODE 4910-13-P